DEPARTMENT OF THE INTERIOR

Fish and Wildlife Service

Notice of Availability of a Draft Habitat Conservation Plan and Receipt of an Application for an Incidental Take Permit for the City and County of Denver's Board of Water Commissioners, Denver, CO

AGENCY: Fish and Wildlife Service, Interior.

ACTION: Notice of availability and receipt of application.

SUMMARY: This notice advises the public that the City and County of Denver, acting by and through its Board of Water Commissioners (Denver Water) has applied to the Fish and Wildlife Service (Service) for an Incidental Take Permit (ITP) pursuant to section 10(a)(1)(B) of the Endangered Species Act of 1973, as amended (Act). The permit would authorize the loss and modification of habitat associated with Denver Water's Operations and Maintenance (O&M) activities and the incidental take of Preble's meadow jumping mouse (Zapus hudsonius preblei) (“Preble's”), federally listed as threatened. The permit would be in effect for 30 years from the date of issuance.

The Service received Denver Water's ITP Application that includes a proposed Habitat Conservation Plan (HCP) and Environmental Assessment (EA) for the Preble's on Denver Water properties. The proposed HCP/EA is available for public comments. It fully describes the proposed O&M activities and the measures Denver Water would undertake to avoid, minimize, and mitigate project impacts to the Preble's.

The Service requests comments on the HCP/EA for the proposed issuance of an ITP. Pursuant to notice requirements under section 10(c) of the Act and the National Environmental Policy Act regulations (40 CFR 1406.6), all comments on the HCP/EA and permit application will become part of the administrative record and will be available to the public.

DATES: Written comments on the permit application and the HCP/EA should be received on or before April 11, 2003.

ADDRESSES: Comments regarding the permit application and the HCP/EA should be addressed to LeRoy Carlson, Field Supervisor, U.S. Fish and Wildlife Service, Colorado Field Office, 755 Parfet Street, Suite 361, Lakewood, Colorado 80215.

FOR FURTHER INFORMATION CONTACT: Kathleen Linder, Fish and Wildlife Biologist, Colorado Field Office, telephone (303) 275-2370.

SUPPLEMENTARY INFORMATION:

Document Availability

Individuals wishing copies of the HCP/EA and associated documents for review should immediately contact the above office. Documents also will be available for public inspection by appointment, during normal business hours, at the Lakewood, Colorado, Field Office (See ADDRESSES above).

Background

Section 9 of the Act and Federal Regulation prohibits the “take” of a species listed as endangered or threatened. Take is defined under the Act, in part, as to kill, harm, or harass a federally listed species. However, the Service may issue permits to authorize “incidental take” of listed species under limited circumstances. Regulations governing permits for threatened species are promulgated in 50 CFR 17.32.

The applicant's plan to conduct O&M activities necessary for Denver Water to meet its mission of providing a safe and high quality water supply to its customers covers properties that may constitute Preble's habitat in Boulder, Jefferson, and Douglas Counties in Colorado. Such activities would include repair and maintenance of infrastructures and facilities (e.g., conduits, siphons), ditch/canal maintenance, road repair and maintenance, construction of new conduits, burial of pipeline, and other activities necessary for municipal water supply. The planning area for the permit application covers approximately 2,428 hectares (6,000 acres) of properties that may constitute Preble's habitat. The O&M activities could permanently alter no more than 4 hectares (10 acres) of potential Preble's habitat, but are estimated to only permanently impact 0.4 hectare (1 acre). Additionally, up to 30 hectares (74 acres) of potential Preble's habitat could be temporarily impacted, with total impacts not to exceed 30 hectares (75 acres) (either 0.4 hectare (1 acre) permanent and 30 hectares (74 acres) temporary or ranging up to no more than 4 hectares (10 acres) permanent and 26 hectares (65 acres) of temporary disturbance). As discussed below, Denver Water proposes a number of measures to mitigate possible impacts of the proposed action.

Alternatives considered were—No Action; individual ITPs on a site-by-site/project-by-project basis, as needed; waiting for approval of and participating in three separate countywide HCPs; waiting for and participating in a single Statewide HCP; and the Preferred Alternative—a single incidental take permit held by Denver Water, achieved through the proposed HCP. None of these alternatives, except No Action, eliminated potential take of Preble's.

To mitigate impacts that may result from incidental take the HCP provides mitigation that includes—restoration of temporary disturbance to a specified level of success, creation of riparian shrub and upland habitat, revegetation of social trails no longer in use, weed management, education to Denver Water employees conducting O&M activities, maintenance and management of a potential Preble's habitat linkage corridor, population monitoring, and conducting Preble's trapping to assess status. All efforts will be made to avoid and minimize disturbances to Preble's habitat according to Best Management Practices specified in the HCP.

Denver Water is committed to providing the necessary funding to support the implementation of the HCP/EA. Denver Water will allocate necessary funds into its budget under an account that is established specifically for the HCPs mitigation, monitoring, and compliance requirements.

This notice is provided pursuant to section 10(c) of the Act. The Service will evaluate the permit application, the EA/HCP, and comments submitted therein to determine whether the application meets the requirements of section 10(a)(1)(B) of the Act. If it is determined that those requirements are met, a permit will be issued for the incidental take of the Preble's in conjunction with Denver Water's activities on properties that may constitute Preble's habitat. The final permit decision will be made no sooner than 60 days from the date of this notice.

Dated: January 29, 2003.
John A. Blankenship,
Deputy Regional Director.

[FR Doc. 03-3133 Filed 2-7-03; 8:45 am]

BILLING CODE 4310-55-P